DEPARTMENT OF THE INTERIOR

Bureau of Land Management

[CA-942-5700-BJ-044B)

California: Filing of Plat of Survey

AGENCY: Bureau of Land Management, Interior.

ACTION: Notice of filing of plat of survey.

SUMMARY: The Bureau of Land Management (BLM) will file the plats of survey of the lands described below in the BLM California State Office, Sacramento, California, in 30 days from the date of publication in the Federal Register.

SUPPLEMENTARY INFORMATION: The plats of Survey of Lands described below have been officially filed at the California State Office of the Bureau of Land Management in Sacramento, California.

Humboldt Meridian, California

T. 4 N., R 1 W.

Corrective dependent resurvey of a portion of the subdivisional lines, and a portion of the metes-and-bounds survey of the Headwaters Tract under (Group 1354) accepted September 9, 2002 to meet certain administrative needs of the BLM, Arcata Field Office.

T. 6N., R 5 E.

Dependent resurvey, retracement, and metes-and-bounds survey under (Group 1367) accepted September 30, 2002 to meet certain administrative needs of the BLM, Arcata Field Office.

Mount Diablo Meridian, California

T. 1 S., R 25 E.

Amended protraction diagram for unsurveyed area, accepted February 27, 2002 to meet certain administrative needs of the BLM, Bishop Field Office.

T. 2 S., R 21 E.

Amended protraction diagram, accepted March 4, 2002 to meet certain administrative needs of the BLM, Folsom Field Office.

T. 29 N., R 4 E.

Dependent resurvey of a portion of the South boundary, and the metes-and-bounds Survey of Tract 37, under (Group 1360) accepted March 29, 2002 to meet certain administrative needs of the BLM, Folsom Field Office.

T. 47 N., R 1 W.

Supplemental plat showing new lotting in section 14, accepted April 8, 2002 to meet certain administrative needs of the BLM, Redding Field Office.

T. 6 S., R 26 E.

Amended protraction diagram for unsurveyed area, accepted April 8, 2002 to meet certain administrative needs of the BLM, Bakersfield Field Office.

T. 6 S., R 27 E.

Amended protraction diagram for unsurveyed area, accepted April 8, 2002 to meet certain administrative needs of the BLM, Bakersfield Field Office.

T. 30 S., R 14 E.

Supplemental plat of the NW ¼ of section 2 and N ½ of section 3, accepted April 8, 2002, to meet certain administrative needs of the BLM, Bakersfield Field Office.

T. 10 N., R 11 E.

Supplemental plat of a portion of section 6, accepted April 15, 2002, to meet certain administrative needs of the BLM, Folsom Field Office.

T. 2 S., R 9 E.

Supplemental plat showing Tract 37, containing new lots 8, 9, 10, 11, and 12, Replacing old lot 6 in the SW ¼ of section 23, accepted April 15, 2002, to meet certain administrative needs of the BLM, Folsom Field Office.

T. 6 S., R 28 E.

Amended protraction diagram for unsurveyed area, accepted April 24, 2002, to meet certain administrative needs of the BLM, Bishop Field Office and Bakersfield Field Office.

T. 5 S., R 29 E.

Amended protraction diagram, accepted April 24, 2002, to meet certain administrative needs of the BLM, Bishop Field Office and Bakersfield Field Office.

T. 5 S., R 28 E.

Amended protraction diagram for unsurveyed area, accepted April 24, 2002, to meet certain administrative needs of the BLM, Bishop Field Office and Bakersfield Field Office.

T. 6 S., R 29 E.

Amended protraction diagram for unsurveyed area, accepted April 24, 2002 to meet certain administrative needs of the BLM, Bishop Field Office and Bakersfield Field Office.

T. 8 S., R 29 E.

Amended protraction diagram for unsurveyed area, accepted April 26, 2002, to meet certain administrative needs of the BLM, Bishop Field Ofifce and Bakersfield Field Office.

T. 8 S., R 31 E.

Amended protraction diagram for unsurveyed area, accepted April 29, 2002, to meet certain needs of the BLM, Bishop Field Office.

T. 7 S., R 27 E.

Amended protraction diagram for unsurveyed area, accepted May 7, 2002, to meet certain needs of the BLM, Bakersfield Field Office.

T. 8 S., R 27 E.

Amended protraction diagram for unsurveyed area, accepted May 7, 2002, to meet certain needs of the BLM, Bakersfield Field Office.

T. 32 N., R 5 W.

Dependent resurvey, subdivision of section 30, and metes-and-bounds survey under Group (1336) accepted June 18, 2002, to meet certain needs of BLM, Redding Field Office.

T. 33 N., R 11 W.

Dependent resurvey and metes-and-bounds survey of tract 37 under Group (1376) accepted June 20, 2002, to meet certain needs of BLM, Redding Field Office.

T. 21 N., R 9 W.

Dependent resurvey, corrective dependent resurvey and survey under Group (1156) accepted July 1, 2002, to meet certain needs of BLM, Redding Field Office.

T. 38 N., R 6 E.

Dependent resurvey and subdivision of sections 19 and 20, accepted July 1, 2002, to meet certain needs of BLM, Alturas Field Office.

T. 18 N., R 10 W.

Corrective dependent resurvey, dependent resurvey, and metes-and-bounds survey, under Group (1309) accepted July 1, 2002, to meet certain needs of the BLM, Redding Field Office.

T. 4 N., R 10 E.

Dependent resurvey and subdivision of section 3, under Group (1328) accepted July 1, 2002, to meet certain needs of the BLM, Folsom Field Office.

T. 5 N., R 10 E.

Dependent resurvey and subdivision of section 34, under Group (1328) accepted July 1, 2002, to meet certain needs of the BLM, Folsom Field Office.

T. 30 S., R 15 E.

Dependent resurvey and subdivision of section 19, under Group (1329) accepted July 3, 2002, to meet certain needs of the BLM, Bakersfield Field Office.

T. 44 N., R 7 W.

Dependent resurvey and subdivision of section 2, under Group (1381) accepted July 3, 2002, to meet certain needs of the BLM, Redding Field Office.

T. 2 N., R 25 E.

Dependent resurvey and subdivision of section 13, under Group (1338) accepted July 26, 2002, to meet certain needs of the BLM, Redding Field Office.

T. 5 S., R 30 E.

Dependent resurvey and subdivision of section 24, under Group (1380) accepted July 26, 2002, to meet certain needs of the BLM, Bishop Field Office.

T. 5 N., R 25 E.

Dependent resurvey and subdivision of section 28, under Group (1348) accepted July 26, 2002, to meet certain needs of the BLM, Bishop Field Office.

T. 6 N., R 8 E.

Dependent resurvey of a portion of the west boundary, a portion of the subdivisional lines, and the subdivision of section 18, under Group (1348) accepted July 31, 2002, to meet certain needs of the BLM, Palm Springs Field Office.

T. 1 S., R 27 E.

Dependent resurvey and Metes-and-bounds of Tract 37, under Group (1361) accepted July 31, 2002, to meet certain needs of the BLM, Bishop Field Office.

T. 4 S., R 30 E.

Dependent resurvey and subdivision of section 29, under Group (1355) accepted July 31, 2002, to meet certain needs of the BLM, Bishop Field Office.

T. 2 N., R 26 E.

Dependent resurvey and subdivision and metes-and-bounds survey, under Group (1284) accepted August 1, 2002, to meet certain needs of the BLM, Bishop Field Office.

T. 16 N., R 8 E.

Supplemental plat of the SW¼SW¼ of section 1, under Group (1400) accepted August 8, 2002, to meet certain needs of the BLM, Folsom Field Office.

T.47 N., R 12 W.

Dependent resurvey and metes and bounds survey, under Group (1310) accepted August 13, 2002, to meet certain needs of the BLM, Redding Field Office.

T. 10 S., R 22 E.

Dependent resurvey and subdivision of section 11 and 15, under Group (1357) accepted August 13, 2002, to meet certain needs of the BLM, Bakersfield Field Office.

T. 32 N., R 5 W.

Supplemental plat of the NE¼NE¼ of section 31, accepted September 13, 2002, to meet certain needs of the BLM, Redding Field Office.

T. 46 N., R 16 E.

Dependent resurvey and metes-and-bounds survey, under Group (1383) accepted September 13, 2002, to meet certain needs of the BLM, Alturas Field Office.

T. 13 S., R 39 E.

Dependent resurvey and subdivision of sections 17, 18, 19, and 20, Under Group (1350) accepted September 19, 2002, to meet certain needs of the BLM, Ridgecrest Field Office.

San Bernardino Meridian, California

T. 13 S., R 3 E.

Dependent resurvey and subdivision of section 25, under Group (1382) accepted January 23, 2002, to meet certain needs of the USDA, Forest Service, Cleveland National Forest.

T. 11 N., R 10 E.

Dependent resurvey and subdivision of section 29, under Group (1389) accepted February 8, 2002, to meet certain needs of the BLM, Needles Field Office.

T. 1 S., R 1 E.

Dependent resurvey and subdivision of the NE¼ section 18, under Group (1389) accepted March 26, 2002, to meet certain needs of the BLM, Needles Field Office.

T. 1 N., R 18 W.

Metes-and-bounds survey in Rancho Las Virgenes, under Group (1349) accepted July 1, 2002, to meet certain needs of the BLM, Spring-South Coast Field Office.

T. 25 N., R 5 E.

Dependent resurvey and subdivision, under Group (1379), accepted July 31, 2002, to meet certain needs of the BLM, Bishop Field Office.

T. 6 S., R 3 E.

Dependent resurvey of a portion of the South boundary, a portion of the subdivisional lines, and the subdivision of sections 30, 31, 32, and 33, under Group (1353) accepted August 1, 2002, to meet certain needs of the BLM, Palm Springs-South Coast Field Office.

T. 10 and 11 S., R 1 W.

Dependent resurvey of a portion of the subdivisional lines and certain tract boundaries, Under Group (1358) accepted August 26, 2002, to meet certain needs of the BLM, Palm Springs Field Office.

We will place a copy of the plats we described in the open files. They will be available to the public as a matter of information.

If BLM receives a protest against any of these surveys, as shown on these plats, prior to the date of the official filing, we will stay the filing pending our consideration of the protest.

We will not officially file these plats until the day after we have accepted or dismissed all protests and they have become final, including decisions on appeals.

FOR FURTHER INFORMATION CONTACT: Bureau of Land Management, 2800 Cottage Way, Room W-1834, Sacramento, CA 95825, (916) 978-4310.

Dated: February 24, 2003.
Lance J. Bishop,
Chief, Branch of Geographic Services, Division of Support Services.

[FR Doc. 03-5441 Filed 3-6-03; 8:45 am]

BILLING CODE 4310-40-M